Notice of May 2, 2013

Continuation of the National Emergency With Respect to Burma

Correction

In Presidential document 2013-10817 beginning on page 26231 in the issue of Monday, May 6, 2013, make the following correction:

On page 26231, on line 4, the Public Law number should read “104-208”.

[FR Doc. C1-2013-10817

Filed 5-7-13; 11:15 am]

Billing code 1505-01-D